DEPARTMENT OF ENERGY

Federal Energy Regulatory Commission

Notice of Effectiveness of Exempt Wholesale Generator and Foreign Utility Company Status

| Docket Nos.
Westlands Transmission Project Owner, LLC | EG24-272-000.
BRP Avila BESS LLC | EG24-273-000.
BRP Cachi BESS LLC | EG24-274-000.
BRP Castor BESS LLC | EG24-275-000.
BRP Desna BESS LLC | EG24-276-000.
BRP Zeya BESS LLC | EG24-277-000.
Platinum Energy Storage LLC | EG24-278-000.
Tanzanite Energy Storage, LLC | EG24-279-000.
Ridgely Energy Farm, LLC | EG24-280-000.
Long Lake Solar, LLC | EG24-281-000.
Limewood Bell Renewables LLC | EG24-282-000.
Eldorado Solar Project, LLC | EG24-283-000.
Wheatridge East Wind, LLC | EG24-284-000.
Kalamazoo Generating Station, LLC | EG24-285-000.
Livingston Generating Station, LLC | EG24-286-000.
Coffeen Solar BESS LLC | EG24-287-000.
Baldwin Solar BESS LLC | EG24-288-000.
Dan's Mountain Wind Force, LLC | EG24-289-000.
Silver State South Storage, LLC | EG24-290-000.
Prairie Center Energy LLC | EG24-291-000.
Henrietta BESS LLC | EG24-292-000.
Hanford BESS LLC | EG24-293-000.
Malaga BESS LLC | EG24-294-000.
Caballero CA Storage, LLC | EG24-295-000.
Fort Duncan BESS LLC | EG24-296-000.
Ashwood Solar I, LLC | EG24-297-000.
Richland Township Solar, LLC | EG24-298-000.
BCD 2024 Fund 4 Lessee, LLC | EG24-299-000.
West River Solar, LLC | EG24-300-000.
Blackford Solar Energy, LLC | EG24-301-000.
Blackford Wind Energy, LLC | EG24-302-000.
Kearsarge Riverpark I LLC | EG24-303-000.
Rocking R Solar, LLC | EG24-304-000.
Speedway Solar, LLC | EG24-305-000.
Hoosier Line Energy, LLC | EG24-306-000.
St Leon Wind Energy LP | FC24-4-000.

Take notice that during the month of November 2024, the status of the above-captioned entities as Exempt Wholesale Generators or Foreign Utility Companies became effective by operation of the Commission's regulations. 18 CFR 366.7(a) (2024).

Dated: December 4, 2024.
Carlos D. Clay,
Acting Deputy Secretary.

[FR Doc. 2024-28952 Filed 12-9-24; 8:45 am]

BILLING CODE 6717-01-P